NATIONAL AERONAUTICS AND SPACE ADMINISTRATION

48 CFR Parts 1845 and 1852

RIN 2700-AE23

NASA Federal Acquisition Regulation Supplement: NASA Capitalization Threshold (NFS Case 2015-N004)

AGENCY: National Aeronautics and Space Administration.

ACTION: Final rule.

SUMMARY: NASA has adopted as final, without change, an interim rule amending the NASA Federal Acquisition Regulation Supplement (NFS) to increase the NASA capitalization threshold from $100,000 to $500,000.

DATES: Effective: November 25, 2015.

FOR FURTHER INFORMATION CONTACT: Andrew O'Rourke, telephone 202-358-4560.

SUPPLEMENTARY INFORMATION:

I. Background

NASA published an interim rule in the Federal Register at 80 FR 51957 on August 27, 2015, to amend the NASA Federal Acquisition Regulation Supplement (NFS) to increase the NASA capitalization threshold from $100,000 to $500,000.

II. Discussion and Analysis

There were no public comments submitted in response to the interim rule. The interim rule has been converted to a final rule, without change.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

NASA does not expect this final rule to have a significant economic impact on a substantial number of small entities within the meaning of the Regulatory Flexibility Act, 5 U.S.C. 601, et se. A final regulatory flexibility analysis has been performed and is summarized as follows:

The increase in the NASA capitalization threshold is expected to benefit NASA contractors by reducing the administrative burden associated with financial reporting of NASA property in the custody of contractors. The legal basis for this rule is 51 U.S.C. 20113(a).

The requirements under this rule will apply to any contract award (including contracts for supplies, services, construction, and major systems) that requires the use of Government property by contractors. According to NASA Property Records in FY 2014 there were 568 contracts that required reporting of Government property by NASA contractors. Of the 568 contracts, it is estimated that approximately 20% or 114 contracts were small businesses.

The rule does not duplicate, overlap, or conflict with any other Federal rules. No alternatives were identified that would meet the objectives of the rule.

V. Paperwork Reduction Act

The rule contains information collection requirements that require the approval of the Office of Management and Budget under the Paperwork Reduction Act (44 U.S.C. chapter 35; however, these changes to the NFS do not impose additional information collection requirements to the paperwork burden previously approved under OMB Control Number 2700-0017, entitled NASA Property In the Custody of Contractors and OMB Control No. 9000-0075, entitled Government Property.

List of Subjects in 48 CFR Parts 1845 and 1852

Government procurement.

Manuel Quinones,
NASA FAR Supplement Manager.

Accordingly, the interim rule amending 48 CFR parts 1845 and 1852, which was published at 80 FR 51957, is adopted as final without change.

[FR Doc. 2015-29981 Filed 11-24-15; 8:45 am]

BILLING CODE 7510-13-P